FEDERAL ELECTION COMMISSION

[NOTICE 2023-03]

Price Index Adjustments for Contribution and Expenditure Limitations and Lobbyist Bundling Disclosure Threshold

AGENCY: Federal Election Commission.

ACTION: Notice of adjustments to contribution and expenditure limitations and lobbyist bundling disclosure threshold.

SUMMARY: As mandated by provisions of the Federal Election Campaign Act (“the Act”), the Federal Election Commission (“the Commission”) is adjusting certain contribution and expenditure limitations and the lobbyist bundling disclosure threshold set forth in the Act, to index the amounts for inflation. Additional details appear in the supplemental information that follows.

DATES: The new limitation at 52 U.S.C. 30116(a)(1)(A) applies beginning on November 9, 2022. The new limitations at 52 U.S.C. 30104(i)(3)(A), 30116(a)(1)(B), 30116(d) and 30116(h) apply beginning on January 1, 2023.

FOR FURTHER INFORMATION CONTACT: Ms. Elizabeth S. Kurland, Information Division, 1050 First Street NE, Washington, DC 20463; (202) 694-1100 or (800) 424-9530.

SUPPLEMENTARY INFORMATION: Under the Federal Election Campaign Act, 52 U.S.C. 30101-45, coordinated party expenditure limits (52 U.S.C. 30116(d)(2) and (3)), certain contribution limits (52 U.S.C. 30116(a)(1)(A) and (B), and (h)), and the disclosure threshold for contributions bundled by lobbyists (52 U.S.C. 30104(i)(3)(A)) are adjusted periodically to reflect changes in the consumer price index. See 52 U.S.C. 30104(i)(3)(B), 30116(c); 11 CFR 109.32(a)(2), (b)(3), 110.17(a) and (f). The Commission is publishing this notice to announce the adjusted limits and disclosure threshold.

Coordinated Party Expenditure Limits for 2023

Under 52 U.S.C. 30116(c), the Commission must adjust the expenditure limitations established by 52 U.S.C. 30116(d) (the limits on expenditures by national party committees, state party committees, or their subordinate committees in connection with the general election campaign of candidates for Federal office) annually to account for inflation. This expenditure limitation is increased by the percent difference between the price index, as certified to the Commission by the Secretary of Labor, for the 12 months preceding the beginning of the calendar year and the price index for the base period (calendar year 1974). 52 U.S.C. 30116(c)(1)(B)(i) and (2)(B)(i).

1. Expenditure Limitation for House of Representatives in States With More Than One Congressional District

Both the national and state party committees have an expenditure limitation for each general election held to fill a seat in the House of Representatives in states with more than one congressional district. See 52 U.S.C. 30116(d)(3)(B). This limitation also applies to the District of Columbia and territories that elect individuals to the office of Delegate or Resident Commissioner.¹ Id. The formula used to calculate the expenditure limitation in such states and territories multiplies the base figure of $10,000 by the difference in the price index (5.93544), rounding to the nearest $100. See 52 U.S.C. 30116(c)(1)(B) and (d)(3)(B); 11 CFR 109.32(b) and 110.17. Based upon this formula, the expenditure limitation for 2023 general elections for House candidates in these states, districts, and territories is $59,400.

¹ Currently, these are Puerto Rico, American Samoa, Guam, the United States Virgin Islands and the Northern Mariana Islands. See http://www.house.gov/representatives.

2. Expenditure Limitation for Senate and for House of Representatives in States With Only One Congressional District

Both the national and state party committees have an expenditure limitation for a general election held to fill a seat in the Senate or in the House of Representatives in states with only one congressional district. See 52 U.S.C. 30116(d)(3)(A). The formula used to calculate this expenditure limitation considers not only the price index but also the voting age population (“VAP”) of the state. Id. The VAP figures used to calculate the expenditure limitations were certified by the U.S. Census Bureau. The VAP of each state is also published annually in the Federal Register by the U.S. Department of Commerce. 11 CFR 110.18. The general election expenditure limitation is the greater of: The base figure ($20,000) multiplied by the difference in the price index, 5.93544 (which totals $118,700); or $0.02 multiplied by the VAP of the state, multiplied by 5.93544. See 52 U.S.C. 30116(c)(1)(B) and (d)(3)(A); 11 CFR 109.32(b) and 110.17. Amounts are rounded to the nearest $100. 52 U.S.C. 30116(c)(1)(B)(iii); 11 CFR 109.32(b)(3) and 110.17(c). The chart below provides the state-by-state breakdown of the 2023 general election expenditure limitations for Senate elections. The expenditure limitation for 2023 House elections in states with only one congressional district ² is $118,700.

² Currently, these states are: Alaska, Delaware, North Dakota, South Dakota, Vermont and Wyoming. See http://www.house.gov/representatives/.

Senate General Election Coordinated Expenditure Limits—2023 Elections ³
State | Voting age population (VAP) | VAP × .02 × the price index (5.93544) | Senate expenditure limit (the greater of the amount in column 3 or $118,700)
Alabama | 3,962,734 | $470,400 | $470,400
Alaska | 557,060 | 66,100 | 118,700
Arizona | 5,770,187 | 685,000 | 685,000
Arkansas | 2,348,518 | 278,800 | 278,800
California | 30,523,315 | 3,623,400 | 3,623,400
Colorado | 4,624,351 | 549,000 | 549,000
Connecticut | 2,895,175 | 343,700 | 343,700
Delaware | 810,269 | 96,200 | 118,700
Florida | 17,948,469 | 2,130,600 | 2,130,600
Georgia | 8,402,753 | 997,500 | 997,500
Hawaii | 1,142,870 | 135,700 | 135,700
Idaho | 1,475,629 | 175,200 | 175,200
Illinois | 9,861,901 | 1,170,700 | 1,170,700
Indiana | 5,263,114 | 624,800 | 624,800
Iowa | 2,476,028 | 293,900 | 293,900
Kansas | 2,246,318 | 266,700 | 266,700
Kentucky | 3,507,735 | 416,400 | 416,400
Louisiana | 3,528,548 | 418,900 | 418,900
Maine | 1,137,442 | 135,000 | 135,000
Maryland | 4,818,071 | 571,900 | 571,900
Massachusetts | 5,644,540 | 670,100 | 670,100
Michigan | 7,924,418 | 940,700 | 940,700
Minnesota | 4,423,022 | 525,100 | 525,100
Mississippi | 2,261,996 | 268,500 | 268,500
Missouri | 4,813,049 | 571,400 | 571,400
Montana | 889,114 | 105,500 | 118,700
Nebraska | 1,491,246 | 177,000 | 177,000
Nevada | 2,487,994 | 295,300 | 295,300
New Hampshire | 1,142,307 | 135,600 | 135,600
New Jersey | 7,267,590 | 862,700 | 862,700
New Mexico | 1,653,831 | 196,300 | 196,300
New York | 15,687,863 | 1,862,300 | 1,862,300
North Carolina | 8,404,094 | 997,600 | 997,600
North Dakota | 596,486 | 70,800 | 118,700
Ohio | 9,193,508 | 1,091,400 | 1,091,400
Oklahoma | 3,066,654 | 364,000 | 364,000
Oregon | 3,403,149 | 404,000 | 404,000
Pennsylvania | 10,347,543 | 1,228,300 | 1,228,300
Rhode Island | 889,822 | 105,600 | 118,700
South Carolina | 4,164,762 | 494,400 | 494,400
South Dakota | 690,659 | 82,000 | 118,700
Tennessee | 5,513,202 | 654,500 | 654,500
Texas | 22,573,234 | 2,679,600 | 2,679,600
Utah | 2,449,192 | 290,700 | 290,700
Vermont | 532,307 | 63,200 | 118,700
Virginia | 6,816,709 | 809,200 | 809,200
Washington | 6,139,213 | 728,800 | 728,800
West Virginia | 1,423,234 | 169,000 | 169,000
Wisconsin | 4,646,910 | 551,600 | 551,600
Wyoming | 451,267 | 53,600 | 118,700

Limitations on Contributions by Individuals, Non-Multicandidate Committees and Certain Political Party Committees Giving to U.S. Senate Candidates for the 2023-2024 Election Cycle

³ This expenditure limit does not apply to the District of Columbia, Puerto Rico, American Samoa, Guam, the United States Virgin Islands, and the Northern Mariana Islands because those jurisdictions do not elect Senators. See 52 U.S.C. 30116(d)(3)(A); 11 CFR 109.32(b)(2)(i).

The Act requires inflation indexing of: (1) The limitations on contributions made by persons under 52 U.S.C. 30116(a)(1)(A) (contributions to candidates) and 30116(a)(1)(B) (contributions to national party committees); and (2) the limitation on contributions made to U.S. Senate candidates by certain political party committees at 52 U.S.C. 30116(h). See 52 U.S.C. 30116(c). These contribution limitations are increased by multiplying the respective statutory contribution amount by 1.65284, the percent difference between the price index, as certified to the Commission by the Secretary of Labor, for the 12 months preceding the beginning of the calendar year and the price index for the base period (calendar year 2001). 52 U.S.C. 30116(c)(1)(B)(i) and (2)(B)(ii). The resulting amount is rounded to the nearest multiple of $100. See 52 U.S.C. 30116(c); 11 CFR 110.17(b). Contribution limitations shall be adjusted accordingly:

Statutory provision | Statutory amount | 2023-2024 Limit
52 U.S.C. 30116(a)(1)(A) | $2,000 | $3,300
52 U.S.C. 30116(a)(1)(B) | 25,000 | 41,300
52 U.S.C. 30116(h) | 35,000 | 57,800

The limitation at 52 U.S.C. 30116(a)(1)(A) is to be in effect for the two-year period beginning on the first day following the date of the general election in the preceding year and ending on the date of the next regularly scheduled election. 52 U.S.C. 30116(c)(1)(C); 11 CFR 110.1(b)(1)(ii). Thus the $3,300 figure above is in effect from November 9, 2022, to November 5, 2024. The limitations under 52 U.S.C. 30116(a)(1)(B) and 30116(h) shall be in effect beginning January 1st of the odd-numbered year and ending on December 31st of the next even-numbered year. 11 CFR 110.1(c)(1)(ii). Thus the new contribution limitations under 52 U.S.C. 30116(a)(1)(B) and 30116(h) are in effect from January 1, 2023, to December 31, 2024. See 11 CFR 110.17(b)(1).

Lobbyist Bundling Disclosure Threshold for 2023

The Act requires certain political committees to disclose contributions bundled by lobbyists/registrants and lobbyist/registrant political action committees once the contributions exceed a specified threshold amount. 52 U.S.C. 30104(i)(1) and (i)(3)(A). The Commission must adjust this threshold amount annually to account for inflation. 52 U.S.C. 30104(i)(3)(B). The disclosure threshold is increased by multiplying the $15,000 statutory disclosure threshold by 1.45167, the difference between the price index, as certified to the Commission by the Secretary of Labor, for the 12 months preceding the beginning of the calendar year and the price index for the base period (calendar year 2006). See 52 U.S.C. 30104(i)(3) and 30116(c)(1)(B); 11 CFR 104.22(g). The resulting amount is rounded to the nearest multiple of $100. 52 U.S.C. 30104(i)(3)(B) and 30116(c)(1)(B)(iii); 11 CFR 104.22(g)(4). Based upon this formula ($15,000 × 1.45167), the lobbyist bundling disclosure threshold for calendar year 2023 is $21,800.

Dated: January 27, 2023.
On behalf of the Commission,
Dara S. Lindenbaum,
Chair, Federal Election Commission.

[FR Doc. 2023-02135 Filed 2-1-23; 8:45 am]

BILLING CODE 6715-01-P